CONSUMER PRODUCT SAFETY COMMISSION

Petition Requesting Rule Declaring Natural Rubber Latex a Strong Sensitizer; Extension of Comment Period

AGENCY: Consumer Product Safety Commission.

ACTION: Notice of extension of comment period.

SUMMARY: The Commission is extending its comment period to receive information concerning a petition asking the Commission to declare natural rubber latex a strong sensitizer under the Federal Hazardous Substances Act (“FHSA”). In response to seven requests, the Commission is extending the comment period to allow submission of comments 30 days after the original comment period of May 22, 2000.

DATES: The Office of the Secretary should receive comments on the petition by June 21, 2000.

ADDRESSES: Comments, preferably in five copies, on the petition should be mailed to the Office of the Secretary, Consumer Product Safety Commission, Washington, DC 20207; telephone (301) 504-0800; or delivered to the Office of the Secretary, Room 502, 4330 East-West Highway, Bethesda, Maryland 20814. Comments may also be filed by telefacsimile to (301) 504-0127 or by email to cpsc-os@cpsc.gov. Comments should be captioned “Petition HP 00-2, Petition on Natural Rubber Latex.” A copy of the petition is available for inspection at the Commission's Public Reading Room, Room 419, 4330 East-West Highway, Bethesda, Maryland.

FOR FURTHER INFORMATION CONTACT: For information about the substance of the petition call or write to Suzanne Barone, Ph.D., Directorate for Health Sciences, U.S. Consumer Product Safety Commission, Washington, DC 20207; telephone (301) 504-0477, extension 1196. For information about submitting comments call or write to Rockelle Hammond, Office of the Secretary, Consumer Product Safety Commission, Washington, DC 20207; telephone (301) 504-0800, ext. 1232.

SUPPLEMENTARY INFORMATION: On March 21, 2000, the Commission published a notice announcing that it has docketed a petition asking that the Commission declare natural rubber latex (“NRL”) a strong sensitizer and requesting comments on the petition. 65 FR 15133. The petitioner, Debi Adkins, editor of Latex Allergy News, asserts that a portion of the population is allergic to NRL and can become seriously ill after contact with consumer products that contain NRL. The March 21 Federal Register notice provided for a 60-day comment period to end May 22, 2000. The Commission has received seven requests to extend the comment period. Four letters requested a 30-day extension, two letters requested 60 days, and another asked for 90 days. After considering these requests, the Commission has decided to extend the comment period 30 days until June 21, 2000.¹

¹ Chairman Ann Brown and Commissioner Mary Gall voted to extend the comment period 30 days. Commissioner Thomas Moore voted for a 60-day extension.

The Commission will consider the comments received on the petition, as well as information presented by the staff, and will decide whether to grant or deny the petition. Should the Commission decide to grant the petition and begin a rulemaking proceeding, there would be another opportunity for the public to comment before the Commission could issue a rule declaring NRL a strong sensitizer.

Dated: May 18, 2000.
Sadye E. Dunn,
Secretary.

[FR Doc. 00-12994 Filed 5-23-00; 8:45 am]

BILLING CODE 6355-01-P